DEPARTMENT OF LABOR

Office of Workers' Compensation Programs.

Agency Information Collection Activities; Comment Request; Authorization for Release of Medical Information for Black Lung Benefits (CM-936)

AGENCY: Division of Coal Mine Workers' Compensation, Office of Workers' Compensation Programs.

ACTION: Notice.

SUMMARY: The Department of Labor (DOL) is soliciting comments concerning a proposed extension for the authority to conduct the information collection request (ICR) titled, “Authorization for Release of Medical Information for Black Lung Benefits (CM-936)”. This comment request is part of continuing Departmental efforts to reduce paperwork and respondent burden in accordance with the Paperwork Reduction Act of 1995 (PRA).

DATES: Consideration will be given to all written comments received by November 5, 2024.

ADDRESSES: A copy of this ICR with applicable supporting documentation; including a description of the likely respondents, proposed frequency of response, and estimated total burden may be obtained free by contacting Anjanette Suggs by telephone at 202-354-9660 or by email at suggs.anjanette@dol.gov.

Submit written comments about, or requests for a copy of, this ICR by mail or courier to the U.S. Department of Labor, Office of Workers' Compensation Programs, Room S3323, 200 Constitution Avenue NW, Washington, DC 20210; by email: suggs.anjanette@dol.gov.

FOR FURTHER INFORMATION CONTACT: Contact Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Black Lung Benefits Act, as amended, 30 U.S.C. 901 et seq., and 20 CFR 725.405 require that all relevant medical evidence be considered before a decision can be made regarding a claimant's eligibility for benefits. By signing the CM-936 form, the claimant authorizes physicians, hospitals, medical facilities or organizations, and the National Institute for Occupational Safety and Health to release medical information about the miner to the Department of Labor's Office of Workers' Compensation Programs. The form contains information required by medical institutions and private physicians to enable them to release pertinent medical information. This information collection is currently approved for use through March 31, 2025.

Interested parties are encouraged to provide comments to the contact shown in the ADDRESSES section. Written comments will receive consideration, and summarized and included in the request for OMB approval of the final ICR. In order to help ensure appropriate consideration, comments should mention 1240-0034.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-Office of Workers' Compensation Programs, DCMWC.

Type of Review: Extension of a currently approved collection.

Title of Collection: Authorization for Release of Medical Information for Black Lung Benefits.

Form: CM-936, Authorization for Release of Medical Information for Black Lung Benefits.

OMB Control Number: 1240-0034.

Affected Public: Individuals or households; Business or other for profit; Not-for-profit institutions.

Estimated Number of Respondents: 5,990.

Frequency: On Occasion.

Total Estimated Annual Responses: 5,990.

Estimated Average Time per Response: 20 minutes.

Estimated Total Annual Burden Hours: 1,995 hours.

Total Estimated Annual Other Cost Burden: $0.

Authority: 44 U.S.C. 3506(c)(2)(A).

Anjanette Suggs,
Agency Clearance Officer.

[FR Doc. 2024-20046 Filed 9-5-24; 8:45 am]

BILLING CODE 4510-CK-P